DEPARTMENT OF DEFENSE

Office of the Secretary

[Transmittal No. 19-56]

Arms Sales Notification

AGENCY: Defense Security Cooperation Agency, Department of Defense.

ACTION: Arms sales notice.

SUMMARY: The Department of Defense is publishing the unclassified text of an arms sales notification.

FOR FURTHER INFORMATION CONTACT: Karma Job at karma.d.job.civ@mail.mil or (703) 697-8976.

SUPPLEMENTARY INFORMATION: This 36(b)(1) arms sales notification is published to fulfill the requirements of section 155 of Public Law 104-164 dated July 21, 1996. The following is a copy of a letter to the Speaker of the House of Representatives, Transmittal 19-56 with attached Policy Justification and Sensitivity of Technology.

Dated: November 27, 2019.
Aaron T. Siegel,
Alternate OSD Federal Register Liaison Officer, Department of Defense.

Transmittal No. 19-56

Notice of Proposed Issuance of Letter of Offer Pursuant to Section 36(b)(l) of the Arms Export Control Act, as amended

(i) Prospective Purchaser: Government of Tunisia

(ii) Total Estimated Value:

Major Defense Equipment * | $115 million
Other | 119 million
TOTAL | 234 million

(iii) Description and Quantity or Quantities of Articles or Services under Consideration for Purchase:

Major Defense Equipment (MDE): Twelve (12) T-6C Texan Trainer Aircraft

Non-Major Defense Equipment (MDE): Also included in this sale are spare engines, cartridge actuated devices/propellant actuated devices operational flight trainer, spare parts, ground handling equipment, support equipment, software delivery and support, publications and technical documentation, clothing, textiles and individual equipment, aircraft ferry support, technical and logistical support services, site surveys, minor modifications/class IV support, personnel training and training equipment, U.S. Government and contractor engineering, technical and logistics support services, and other related elements of logistical and program support.

(iv) Military Department: Air Force (TU-D-SAB)

(v) Prior Related Cases, if any: None

(vi) Sales Commission, Fee, etc., Paid, Offered, or Agreed to be Paid: None

(vii) Sensitivity of Technology Contained in the Defense Article or Defense Services Proposed to be Sold: See Attached annex.

(viii) Date Report Delivered to Congress: October 10, 2019

* As defined in Section 47(6) of the Arms Export Control Act.

POLICY JUSTIFICATION

Tunisia—T-6C Texan Trainer Aircraft

The Government of Tunisia has requested a possible sale of twelve (12) T-6C Texan trainer aircraft, spare engines, cartridge actuated devices/propellant actuated devices operational flight trainer, spare parts, ground handling equipment, support equipment, software delivery and support, publications and technical documentation, clothing, textiles and individual equipment, aircraft ferry support, technical and logistical support services, site surveys, minor modifications/class IV support, personnel training and training equipment, U.S. Government and contractor engineering, technical and logistics support services, and other related elements of logistical and program support. The estimated value is $234 million.

This proposed sale will support the foreign policy and national security of the United States by helping to improve the defense capabilities and capacity of a major non-NATO ally, which is an important force for political stability and economic progress in North Africa. This potential sale will provide additional opportunities for bilateral engagements and further strengthen the bilateral relationship between the United States and Tunisia.

The proposed sale will replace Tunisia's aging trainer fleet and allow Tunisia to continue training pilots to support Tunisia's counter-terrorism and border security missions. Tunisia will have no difficulty absorbing this aircraft into its armed forces.

The proposed sale of this equipment and support will not alter the basic military balance in the region.

The prime contractor will be Textron Aviation Defense LLC of Wichita, Kansas. There are no known offset agreement proposed with this potential sale. However, the purchaser typically requests offsets. Any offset agreement will be defined in negotiations between the purchaser and the contractor.

Implementation of this proposed sale will require the assignment of nine U.S. Government and one contractor representative to Tunisia.

There will be no adverse impact on U.S. defense readiness as a result of this proposed sale.

Transmittal No. 19-56

Notice of Proposed Issuance of Letter of Offer Pursuant to Section 36(b)(1) of the Arms Export Control Act

Annex

Item No. vii

(vii) Sensitivity of Technology:

1. The T-6C is a single engine turboprop trainer aircraft that includes a virtual no-drop scoring capability. Its primary purpose is to teach air to ground operations. No hard points or weapons can be carried on the T-6C.

2. A determination has been made that the recipient country can provide substantially the same degree of protection for the technology being released as the U.S. Government. This sale is necessary in furtherance of the U.S. foreign policy and national security objectives outlined in the Policy Justification.

3. All defense articles and services listed in this transmittal have been authorized for release and export to the Government of Tunisia.

[FR Doc. 2019-26167 Filed 12-3-19; 8:45 am]

BILLING CODE 5001-06-P